SMALL BUSINESS ADMINISTRATION

Reporting and Recordkeeping Requirements Under OMB Review

AGENCY: Small Business Administration.

ACTION: Notice of reporting requirements submitted for OMB review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before April 30, 2010. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Jacqueline White, Small Business Administration, 409 3rd Street, SW., 5th Floor, Washington, DC 20416; and OMB Reviewer, Office of Information and Regulatory Affairs, Office of Management and Budget, New Executive Office Building, Washington, DC 20503.

FOR FURTHER INFORMATION CONTACT: Jacqueline White, Agency Clearance Officer, (202) 205-7044.

SUPPLEMENTARY INFORMATION:

Title: SBA Express and Pilot Loan Program Export Express Community Express and Patriot Express.

Frequency: On occasion.

SBA Form Numbers: 1919, 1920SX, A, B, C 2237, 2238.

Description of Respondents: Small Business Clients.

Responses: 98,200.

Annual Burden: 52,474.

Title: Lenders Disbursement & Collection Report.

Frequency: On occasion.

SBA Form Number: 1502R.

Description of Respondents: Eligible Dealers associated with the Dealer floor plan.

Responses: 300.

Annual Burden: 140.

Title: Form of Detached assignment for U.S. Small Business Administration Loan Pool or Guaranteed Interest Certificate.

Frequency: On occasion.

SBA Form Number: 1088.

Description of Respondents: Secondary market participants.

Responses: 6,500.

Annual Burden: 9,750.

Title: Federal Agency Comment Forms.

Frequency: On occasion.

SBA Form Number: 1993.

Description of Respondents: Small business owners and farmers.

Responses: 350.

Annual Burden: 263.

Title: Federal Cash Transaction Report, Financial Status Report, Program Income Report, Narrative Program Report.

Frequency: On occasion.

SBA Form Numbers: SF 269, SF-272, SBA Form 2113.

Description of Respondents: Eligible Dealers associated with the Dealer floor plan.

Responses: 126.

Annual Burden: 8,568.

Title: Application for 8(a) Business Development (BD) and Small Disadvantaged Business (SDB) Certification.

Frequency: On occasion.

SBA Form Numbers: 1010, 1010-IND, 1010-AIT, 1010-ANC, 1010-CDC, 1010-NHO, 1010-REP, 1010-RECERT and 1010C.

Description of Respondents: Eligible Small Disadvantage Businesses and 8(a) businesses.

Responses: 9,971.

Annual Burden: 36,210.

Jacqueline White,
Chief, Administrative Information Branch.

[FR Doc. 2010-7247 Filed 3-30-10; 8:45 am]

BILLING CODE 8025-01-P